DEPARTMENT OF TRANSPORTATION

Federal Aviation Administration

PS-ACE100-2004-10023, Final Policy for Flammability of Electrical Wire Used in Part 23 Aircraft per 14 CFR, Part 23, §§ 23.853 and 23.1359

AGENCY: Federal Aviation Administration, DOT.

ACTION: Notice of issuance of policy.

SUMMARY: This notice announces the issuance of PS-ACE100-2004-10023. This Policy Statement clarifies the applicability of AC 43.13-1B, Change 1 for flammability of electrical wire used in part 23 aircraft. Electrical wire listed in section 7 of AC 43.13-1B,Change 1 complies with §§ 23.853 and 23.1359 and is acceptable for use in part 23 aircraft without further testing. The draft policy statement was issued for Public Comment on March 26, 2004. When possible, comments received were used to modify the draft policy.

DATES: PS-ACE100-2004-10023 was issued by the Manager, Small Airplane Directorate on July 9, 2004.

FOR FURTHER INFORMATION CONTACT: A paper copy of PS-ACE100-2004-10023 may be obtained by contacting Mr. Leslie B. Taylor, Standards Office, Small Airplane Directorate, Aircraft Certification Service, Kansas City, Missouri 64106, telephone (816) 329-4134, fax (816) 329-4090. The policy will also be available on the Internet at http://www.airweb.faa.gov/policy.

Issued in Kansas City, Missouri on July 12, 2004.
James E. Jackson,
Acting Manager, Small Airplane Directorate, Aircraft Certification Service.

[FR Doc. 04-18060 Filed 8-6-04; 8:45 am]

BILLING CODE 4910-13-P